DEPARTMENT OF TRANSPORTATION

Federal Aviation Administration

14 CFR Part 39

[Docket No. FAA-2019-0404; Product Identifier 2019-NM-007-AD]

RIN 2120-AA64

Airworthiness Directives; Airbus SAS Airplanes

AGENCY: Federal Aviation Administration (FAA), DOT.

ACTION: Notice of proposed rulemaking (NPRM).

SUMMARY: We propose to supersede Airworthiness Directive (AD) 2018-26-07, which applies to all Airbus SAS Model A350-941 and -1041 airplanes. AD 2018-26-07 requires repetitive greasing of the thrust reverser actuators (TRAs), dispatch restrictions, and maintenance procedure revisions. Since we issued AD 2018-26-07, we are now proposing to add a requirement to replace the TRAs, which AD 2018-26-07 specified was not required at the time to provide the opportunity for the public to comment on the merits of that action. This proposed AD would require actions specified in an European Aviation Safety Agency (EASA) AD, which will be incorporated by reference. We are proposing this AD to address the unsafe condition on these products.

DATES: We must receive comments on this proposed AD by July 22, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material identified in this NPRM that will be incorporated by reference (IBR), contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0404; or in person at Docket Operations between 9 a.m. and 5 p.m., Monday through Friday, except Federal holidays. The AD docket contains this NPRM, the regulatory evaluation, any comments received, and other information. The street address for Docket Operations (phone: 800-647-5527) is listed above. Comments will be available in the AD docket shortly after receipt.

FOR FURTHER INFORMATION CONTACT: Kathleen Arrigotti, Aerospace Engineer, International Section, Transport Standards Branch, FAA, 2200 South 216th St., Des Moines, WA 98198; phone and fax: 206-231-3218.

SUPPLEMENTARY INFORMATION:

Comments Invited

We invite you to send any written relevant data, views, or arguments about this proposal. Send your comments to an address listed under the ADDRESSES section. Include “Docket No. FAA-2019-0404; Product Identifier 2019-NM-007-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2018-26-07, Amendment 39-19538 (83 FR 67677, December 31, 2018) (“AD 2018-26-07”), for all Airbus SAS Model A350-941 and -1041 airplanes. AD 2018-26-07 requires repetitive greasing of the TRAs, dispatch restrictions, and maintenance procedure revisions. AD 2018-26-07 resulted from reports of the TRAs jamming. We issued AD 2018-26-07 to address jamming of the TRAs, which could lead to an inadvertent thrust reverser sleeve deployment, possibly resulting in reduced control or performance of the airplane.

Actions Since AD 2018-26-07 Was Issued

The preamble to AD 2018-26-07 specifies that we consider the requirements “interim action” and that we were considering requiring a one-time replacement of affected (all part numbers) TRAs. That AD explains that the planned compliance time for the installation of the TRAs would allow enough time to provide notice and opportunity for prior public comment on the merits of the replacement, and this proposed AD follows from that determination.

EASA, which is the Technical Agent for the Member States of the European Union, has issued EASA AD 2018-0234R1, dated November 13, 2018 (“EASA AD 2018-0234R1”) (also referred to as the Mandatory Continuing Airworthiness Information, or “the MCAI”), to correct an unsafe condition for all Airbus SAS Model A350-941 and -1041 airplanes. The MCAI states:

Operators of A350 aeroplanes have reported some occurrences of TRA jamming. Further investigation results indicated that the ball bearings inside the TRA are suffering from corrosion due to lack of grease and are degrading with time.

This condition, if not corrected, could lead to an inadvertent thrust reverser sleeve deployment, possibly resulting in reduced control or performance of the aeroplane.

To address this potential unsafe condition, Airbus issued the AOT [Alert Operators Transmission A78P001-18 Revision 01] to provide instructions for repetitive TRA greasing to prevent actuator ball bearings degradation, and the MER [Major Event Revision] that incorporates temporary restrictions of the MMEL [Master Minimum Equipment List] items related to thrust reverser actuation system. The AOT also provides instructions to replace certain affected TRA, depending on condition and previously applied greasing.

For the reasons described above, this [EASA] AD requires implementation of certain dispatch restrictions. This [EASA] AD also requires repetitive greasing of each affected TRA and a one-time replacement of certain affected TRA, depending on condition.

* * * * *

This [EASA] AD is still considered to be an interim action and further AD action may follow.

Explanation of Retained Requirements

Although this proposed AD does not explicitly restate the requirements of AD 2018-26-07, this proposed AD would retain all of the requirements of AD 2018-26-07. Those requirements are referenced in EASA AD 2018-0234R1, which, in turn, is referenced in paragraph (g) of this proposed AD.

Related IBR Material Under 1 CFR Part 51

This proposed AD would continue to require EASA AD 2018-0234R1, which the Director of the Federal Register approved for incorporation by reference as of January 15, 2019 (83 FR 67677, December 31, 2018). This material is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2018-0234R1 described previously, as incorporated by reference, except for any differences identified as exceptions in the regulatory text of this proposed AD and except as discussed under “Differences Between this Proposed AD and the MCAI/Service Information.”

Explanation of Required Compliance Information

In the FAA's ongoing efforts to improve the efficiency of the AD process, the FAA worked with Airbus and EASA to develop a process to use certain EASA ADs as the primary source of information for compliance with requirements for corresponding FAA ADs. As a result, EASA AD 2018-0234R1 will be incorporated by reference in the FAA final rule. This proposed AD would, therefore, require compliance with the provisions specified in EASA AD 2018-0234R1, through that incorporation, except for any differences identified as exceptions in the regulatory text of this proposed AD. Service information specified in EASA AD 2018-0234R1 that is required for compliance with EASA AD 2018-0234R1 will be available on the internet http://www.regulations.gov by searching for and locating Docket No. FAA-2019-0404 after the FAA final rule is published.

Differences Between This Proposed AD and the MCAI/Service Information

The MCAI specifies to revise the EASA/Airbus MMEL to change certain MMEL items. This proposed AD refers to the operator's minimum equipment list (MEL) instead of the FAA MMEL. It is unnecessary to reference the MMEL, as operators are required in 14 CFR part 91 to have an MEL to operate with inoperable equipment and provisions for relief cannot be in an MEL without first being part of the MMEL. The intent of the provision has not changed.

In addition, there are differences between the EASA/Airbus MMEL and the FAA MMEL. The FAA MMEL is more restrictive because relief is provided for only one engine reverser, whereas the EASA/Airbus MMEL provides relief for both. Therefore, this proposed AD would require incorporating the information specified in Figure 1 to paragraph (h)(4) of this proposed AD into the operator's MEL.

Costs of Compliance

We estimate that this proposed AD affects 11 airplanes of U.S. registry. We estimate the following costs to comply with this proposed AD:

Estimated Costs for Required Actions
Action | Labor cost | Parts cost | Cost per product | Cost on U.S. operators
Retained actions from AD 2018-26-07 | 10 work-hours × $85 per hour = $850 | $0 | $850 | $9,350
New proposed actions | 12 work-hours × $85 per hour = $1,020 | * | * | *
* We have received no definitive data that would enable us to provide parts cost estimates for the replacement specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-26-07, Amendment 39-19538 (83 FR 67677, December 31, 2018), and adding the following new AD:

Airbus SAS: Docket No. FAA-2019-0404; Product Identifier 2019-NM-007-AD.

(a) Comments Due Date

We must receive comments by July 22, 2019.

(b) Affected ADs

This AD replaces AD 2018-26-07, Amendment 39-19538 (83 FR 67677, December 31, 2018) (“AD 2018-26-07”).

(c) Applicability

This AD applies to all Airbus SAS Model A350-941 and -1041 airplanes, certificated in any category.

(d) Subject

Air Transport Association (ATA) of America Code 78, Engine Exhaust.

(e) Reason

This AD was prompted by reports of thrust reverser actuators (TRAs) jamming and the determination that a one-time replacement of affected TRAs (all part numbers) is necessary. We are issuing this AD to address jamming of the TRAs, which could lead to an inadvertent thrust reverser sleeve deployment, possibly resulting in reduced control or performance of the airplane.

(f) Compliance

Comply with this AD within the compliance times specified, unless already done.

(g) Requirements

Except as specified in paragraph (h) of this AD: Comply with all required actions and compliance times specified in, and in accordance with, European Aviation Safety Agency (EASA) AD 2018-0234R1, dated November 13, 2018 (“EASA AD 2018-0234R1”).

(h) Exceptions to EASA AD 2018-0234R1

(1) For purposes of determining compliance with the inspection requirements of this AD: Where EASA AD 2018-0234R1 refers to its effective date, this AD requires using January 15, 2019 (the effective date of AD 2018-26-07).

(2) For purposes of determining compliance with the TRA replacement requirements of this AD: Where EASA AD 2018-0234R1 refers to its effective date, this AD requires using the effective date of this AD.

(3) Where EASA AD 2018-0234R1 refers to the master minimum equipment list (MMEL), instead refer to the operator's minimum equipment list (MEL).

(4) Where EASA AD 2018-0234R1 refers to the flight operations transmission (FOT) for certain changes, for this AD, do not incorporate the information specified in EASA MMEL item 78-09-01B, “ENG 1(2) REVERSER MINOR FAULT message—Associated reverser considered inoperative,” and instead, incorporate the information specified in Figure 1 to paragraph (h)(4) of this AD into the operator's MEL.

(5) The “Remarks” section of EASA AD 2018-0234R1 does not apply to this AD.

(6) Where EASA AD 2018-0234R1 refers to the “the MER,” that document is not required by this AD, and it is not applicable to U.S. operators.

(i) No Reporting Requirement

Although the service information referenced in EASA AD 2018-0234R1 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0234R1 that contains RC procedures and tests: Except as specified by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2018-0234R1, contact the EASA, Konrad-Adenauer-Ufer 3, 50668 Cologne, Germany; telephone +49 221 89990 6017; email ADs@easa.europa.eu; internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0234R1 may be found in the AD docket on the internet at http://www.regulations.gov by searching for and locating Docket No. FAA-2019-0404.

(2) For more information about this AD, contact Kathleen Arrigotti, Aerospace Engineer, International Section, Transport Standards Branch, FAA, 2200 South 216th St., Des Moines, WA 98198; phone and fax: 206-231-3218.

Issued in Des Moines, Washington, on May 28, 2019.
Michael Kaszycki,
Acting Director, System Oversight Division, Aircraft Certification Service.

[FR Doc. 2019-11785 Filed 6-5-19; 8:45 am]

BILLING CODE 4910-13-P